INTERNATIONAL TRADE COMMISSION

Petitions for Duty Suspensions and Reductions: Notice That the Commission Will Accept Additional Comments Through Its Web Site Relating to Certain Petitions Included in Its Preliminary Report to the Congress

AGENCY: United States International Trade Commission.

ACTION: Notice that the Commission will accept additional comments from the public on certain petitions for duty suspensions and reductions included in its preliminary report to the House Committee on Ways and Means and the Senate Committee on Finance.

SUMMARY: The Commission intends to provide a limited opportunity for members of the public to submit additional comments on certain petitions for duty suspensions and reductions. Under the American Manufacturing Competitiveness Act of 2016 (the Act), the Commission will submit a preliminary report on the petitions for duty suspensions and reductions that have been filed with it to the House Ways and Means Committee and the Senate Finance Committee on June 9, 2017.

In that report, the Commission will categorize petitions as (a) petitions that meet the requirements of the Act with or without modification (Category I, II, III, or IV petitions), (b) petitions that do not contain the information required by the Act or that were not filed by a likely beneficiary (Category V petitions), and (c) petitions that the Commission does not recommend for inclusion in a miscellaneous tariff bill (Category VI petitions). The Commission has decided that it will accept additional comments from the public on any petitions that are listed as Category VI petitions for a ten day period beginning on June 12, 2017, at 8:45 a.m. As provided below, all such comments must be submitted to the Commission electronically through the Commission Web site https://www.usitc.gov/mtbps. The Commission will not accept comments filed in paper form or in any other form or format.

DATES: June 12, 2017, 8:45 a.m. EST: Opening date and time for submission of additional comments on Category VI petitions.

June 21, 2017, 5:15 p.m. EST: Closing date and time for submission of comments on Category VI petitions.

ADDRESSES: All Commission offices are located in the United States International Trade Commission Building, 500 E Street SW., Washington, DC. The public file for this proceeding may be viewed on the Commission's MTBPS at https://www.usitc.gov/mtbps.

FOR FURTHER INFORMATION CONTACT: For general inquiries, contact Jennifer Rohrbach at mtbinfo@usitc.gov. For filing inquiries, contact the Office of Secretary, Docket Services division, U.S. International Trade Commission, telephone (202) 205-3238. The media should contact Peg O'Laughlin, Public Affairs Officer (202-205-1819 or margaret.olaughlin@usitc.gov). General information concerning the Commission may be obtained by accessing its internet server (https://www.usitc.gov).

SUPPLEMENTARY INFORMATION: Background: The American Manufacturing Competitiveness Act of 2016 (the Act), Public Law 114-159, May 20, 2016, 19 U.S.C. 1332 note, established a new process for the submission and consideration of requests for temporary duty suspensions and reductions. As required by the Act, the Commission initiated the new process by publishing a notice in the Federal Register permitting members of the public to submit petitions of duty suspensions and reductions to the Commission for a 60-day period beginning October 14, 2017. (See 81 FR 71114 (Oct. 14, 2017)). After the window for filing petitions closed on December 12, 2017, the Commission published, as required by the Act, a notice in the Federal Register announcing publication on its Web site of the petitions for duty suspensions and reductions that were submitted to the Commission and not withdrawn. (82 FR 3357 (Jan. 11, 2017)). The notice invited members of the public to submit comments on these petitions during a 45-day period, which ended February 24, 2017.

Pursuant to the Act, the Commission is required to submit preliminary and final reports on the petitions to the House Committee on Ways and Means and the Senate Committee on Finance (the Committees). The Commission's preliminary report is due to the Committees on June 9, 2017. In its preliminary report to the Committees, the Commission must evaluate whether petitions meet the requirements of the Act and should be included in an omnibus miscellaneous tariff bill.

In preparing its report, the Act requires that the Commission take into account the report of the Secretary of Commerce, issued April 10, 2017. In the report, the Secretary analyzed, for each petition, whether there was domestic production of the article that was the subject of a petition, and if so, whether a domestic producer of the article objected to the petition. In the report, based on consultations with Customs and Border Protection, the Secretary also recommended whether any technical changes were necessary to make each petition's article description administrable.

In its preliminary report, the Commission must place these petitions into one of six categories. Specifically, the Commission must categorize each petition as (a) a petition that meets the requirements of the Act without modification (Category I petition), (b) a petition that meets the requirements of the Act with certain modifications (Category II, III or IV petitions), (c) a petition that does not contain the information required by the Act or was not filed by a likely beneficiary (Category V petition), or (d) a petition that the Commission does not recommend for inclusion in a miscellaneous tariff bill (Category VI petition).

The Commission has decided to re-open its Web site portal for the limited purpose of allowing members of the public to submit comments on petitions that have been categorized as Category VI petitions in its preliminary report. The Commission will re-open the portal for this limited purpose on June 12, 2017 at 8:45 a.m. and will close the portal on June 21, 2017 at 5:15 p.m. As discussed below, the Commission will only accept information from the public that relates to its decision to place these petitions into Category VI.

Content of Comments: The public will be able to comment on the administrability of the article descriptions in the petitions, the existence of domestic producer objections to the petitions, and other issues affecting their placement in Category VI. In particular, the Commission seeks input that would clarify or narrow the scope of proposed article descriptions in Category VI petitions, including the constituent materials in the intended merchandise or similar information that would help verify the classification of the goods in chapters 1-97 of the HTS. Similarly, the Commission seeks information that could clarify technical criteria, distinguish the intended merchandise in a petition from other goods in the same rate line, or narrow the scope of an article description to avoid covering domestically produced goods.

Procedures for Filing a Comment

Who may file. Comments may be filed by any member of the public, including the firm or its representative who filed the petition. However, the Commission will consider only comments that relate to petitions listed under category VI in the Commission's preliminary report submitted to the Committees on June 9, 2017. The Commission will not consider comments that relate to petitions listed under categories I, II, III, IV, and V in the preliminary report.

Method for filing. Comments may only be filed electronically via the Commission's designated secure MTBPS web portal and in the format designated by the Commission in that portal. The portal may be accessed through the Commission's Web site at https://usitc.gov under “Miscellaneous Tariff Bill Information.” The portal contains a series of prompts and links that will assist persons in providing the required information. The Commission will not accept or consider comments submitted in paper or in any other form or format. Comments must contain all information required in the portal in order to be considered properly filed. Comments, including any attachments thereto, must otherwise comply with the Commission's rules and Handbook on MTB Filing Procedures. Persons seeking to comment on more than one petition must submit a separate comment for each petition.

Persons filing comments should be aware that they must be prepared to complete their entire comment when they enter the portal. The portal will not allow them to edit, amend, or complete the comment at a later time. Accordingly, they will need to complete their comment at the time they enter the portal.

Time for filing. To be considered, comments must be filed no earlier than June 12, 2017 at 8:45 a.m. and no later than the close of business (5:15 p.m. EST) on June 21, 2017. The Commission will not accept comments filed before or after these times and dates.

Amendment and withdrawal of comments. The Commission's secure web portal will not allow a person who has formally submitted a comment during this filing period to amend that comment. Instead, that person must withdraw the original comment and file a new comment that incorporates the changes. The new comment must be filed before 5:15 p.m. EST on June 21, 2017. Comments may not be withdrawn or amended after that time.

Comments containing confidential business information. The portal will permit persons submitting comments to claim that certain information should be treated either as confidential business information or as information protected from disclosure under the Privacy Act (e.g., a home address). However, because of the portal's design, the portal instructs that such information not be included in attachments to comments. Persons who include confidential business information and information protected under the Privacy Act in attachments to their comments will be presumed to have waived any privilege and the information will be disclosed to the public when the comments and attachments are posted on the Commission's Web site. See further information below on possible disclosure of confidential business information.

Confidential Business Information: The Commission will not release information which the Commission considers to be confidential business information within the meaning of § 201.6(a) of its Rules of Practice and Procedure (19 CFR 201.6) unless the party submitting the confidential business information had notice, at the time of submission, that such information would be released by the Commission, or such party subsequently consents to the release of the information.

Confidential business information submitted to the Commission in comments may be disclosed to and/or used by (1) the Commission in calculating the estimated revenue loss required under the Act, which may be based in whole or in part on the estimated values of imports submitted in comments (as well as by petitioners in their petitions); (2) the Commission, its employees, and contract personnel (a) in processing petitions and comments and preparing reports under the American Manufacturing Competitiveness Act of 2016 or (b) in internal investigations, audits, reviews, and evaluations relating to the programs, personnel, and operations of the Commission including under 5 U.S.C. Appendix 3; (3) Commerce for use in preparing its report to the Commission and the Committees, and the U.S. Department of Agriculture and CBP for use in providing information for that report; or (4) U.S. government employees and contract personnel, solely for cybersecurity purposes, subject to the requirement that all contract personnel will sign appropriate nondisclosure agreements.

By order of the Commission.
Issued: May 19, 2017.
Lisa R. Barton,
Secretary of the Commission.

[FR Doc. 2017-10667 Filed 5-24-17; 8:45 am]

BILLING CODE 7020-02-P